DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Hampton & Branchville Railroad Company

[Docket Number FRA-2002-12938]

The Hampton & Branchville Railroad Company (H&B), located in Hampton, North Carolina, seeks a waiver of compliance, docket number FRA-2002-12938, with the requirements of the Locomotive Safety Standards, 49 CFR part 229. Section 229.125(d) of the standards requires each lead locomotive operated at a speed greater then 20 miles per hour over one or more public highway-rail crossings be equipped with operative auxiliary lights in addition to the required headlight. The Hampton & Branchville Railroad states that the speed over their entire line is 20 mph. If the waiver is granted H&B would operate over one crossing at a speed not greater then 25 mph on class II track from mile post 8.75 to mile post 9.25 where ruling grade slows trains speed, without equipping their locomotives with auxiliary lights. H&B states that the crossing is always flagged by a crew member.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2002-12938) and must be submitted to the Docket Clerk, DOT Central Docket Management Facility, Room PL-401, 400—7th Street, SW., Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC, on August 23, 2002.
Grady C. Cothen, Jr.,
Deputy Associate Administrator for Safety Standards and Program Development.

[FR Doc. 02-21976 Filed 8-27-02; 8:45 am]

BILLING CODE 4910-06-P